DEPARTMENT OF THE INTERIOR

Bureau of Land Management

[LLNM931000.L14400000.BJ0000 212L1109AF]

Notice of Filing of Plats of Survey; New Mexico

AGENCY: Bureau of Land Management, Interior.

ACTION: Notice of official filing.

SUMMARY: The plats of survey of the following described lands are scheduled to be officially filed in the Bureau of Land Management (BLM), New Mexico State Office, Santa Fe, New Mexico, 30 days after the date of this publication. The surveys announced in this notice are necessary for the management of lands administered by the agency indicated.

DATES: Unless there are protests of this action, the plats described in this notice will be filed on November 8, 2021.

ADDRESSES: These plats will be available for inspection in the New Mexico State Office, Bureau of Land Management, 301 Dinosaur Trail, Santa Fe, New Mexico 85004-4427. Protests of a survey should be sent to the New Mexico State Director at the above address.

FOR FURTHER INFORMATION CONTACT: Michael J. Purtee, Chief Cadastral Surveyor; (505) 761-8903; mpurtee@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION:

New Mexico Principal Meridian, New Mexico:

The plat, representing the dependent resurvey of a portion of the subdivisional lines within Township 16 North, Range 11 East, and certain mineral surveys in Townships 16 and 17 North, Range 11 East, accepted February 1, 2021, for Group 1191, New Mexico. This plat was prepared at the request of the U.S. Department of Agriculture, Santa Fe National Forest, Region 3.

The plat, representing the dependent resurvey of a tract of land in Township 22 North, Range 14 East, accepted October 22, 2020, for Group 1199, New Mexico. This plat was prepared at the request of the U.S. Department of Agriculture, Carson National Forest, Region 3.

The plat, representing the dependent resurvey, survey, and metes-and-bounds survey of a tract of land within Township 12 North, Range 11 West, accepted March 15, 2021, for Group 1202, New Mexico. This plat was prepared at the request of the Bureau of Land Management, Rio Puerco District Office.

The plat, representing the dependent resurvey and survey of tracts of land in Township 26 South, Range 29 East, accepted March 25, 2021, for Group 1205, New Mexico. This plat was prepared at the request of the Bureau of Land Management, New Mexico State Office, Lands and Minerals Department.

A person or party who wishes to protest any of these surveys must file a written notice of protest within 30 calendar days from the date of this publication at the address listed in the ADDRESSES section of this notice. A statement of reasons for a protest may be filed with the notice of protest or the statement of reasons must be filed with the State Director for New Mexico within 30 days after the protest is filed. A notice of protest is considered filed on the date it is received by the State Director for New Mexico during regular business hours; if received after regular business hours, a notice of protest will be considered filed the next business day. Any notice of protest filed after the scheduled date of official filing will be untimely and will not be considered. A statement of reasons for the protest may be filed with the notice of protest and must be filed within 30 calendar days after the protest is filed. If a notice of protest against the survey is received prior to the date of official filing, the filing will be stayed pending consideration of the protest. A plat will not be officially filed until the next business day after all protests have been dismissed or otherwise resolved.

Before including your address, or other personal information in your protest, please be aware that your entire protest, including your personal identifying information, may be made publicly available at any time. While you can ask us in your comment to withhold your personal identifying information from public review, we cannot guarantee that we will be able to do so.

Authority: 43 U.S.C. Chap. 3.

Michael J. Purtee,
Chief Cadastral Surveyor, BLM New Mexico.

[FR Doc. 2021-21964 Filed 10-6-21; 8:45 am]

BILLING CODE 4310-FB-P